FEDERAL COMMUNICATIONS COMMISSION

47 CFR Part 64

[CG Docket No. 03-123; DA 10-1235]

Telecommunications Relay Services and Speech-to-Speech Services for Individuals With Hearing and Speech Disabilities

AGENCY: Federal Communications Commission.

ACTION: Final rule; extension of waiver.

SUMMARY: In this document, the Commission extends for an additional year current waivers of certain Telecommunications Relay Services (TRS) mandatory minimum standards for Video Relay Service (VRS) and Internet Protocol Relay (IP Relay). The waived TRS mandatory minimum standards are: One-line voice carry over (VCO); VCO-to-teletypewriter (TTY); VCO-to-VCO; one-line hearing carry over (HCO); HCO-to-TTY; HCO-to-HCO; call release; speech-to-speech (STS); pay-per-call (900) calls; types of calls; and equal access to interexchange carriers requirements. The Commission also extends for one year a requirement for default Internet-based TRS providers that are unable to meet such standards for newly-registered Internet-based TRS users who port their customer premises equipment (CPE) from a former default provider. The Commission extends the waivers for one year because the record demonstrates that it is technologically infeasible for VRS and IP Relay providers to offer these services at this time. All of these waivers are conditioned on the filing of a report, due April 16, 2011, addressing whether it is necessary for the waivers to remain in effect.

DATES: DA 10-1235 became effective on June 30, 2010. The waivers of certain TRS mandatory minimum standards for VRS and IP Relay will expire on July 1, 2011, or until the Commission addresses pending petitions regarding CPE portability, which ever comes first.

ADDRESSES: Federal Communications Commission, 445 12th Street, SW., Washington, DC 20554. Parties may submit documentation related to the waivers, identified by [CG Docket No. 03-123 and/or DA 10-1235], by mail, to Dana Wilson, Consumer and Governmental Affairs Bureau, Disability Rights Office, Room 3-C418.

FOR FURTHER INFORMATION CONTACT: Gregory Hlibok, (202) 559-5158 (voice/videophone), or e-mail Gregory.Hlibok@fcc.gov.

SUPPLEMENTARY INFORMATION: This is a summary of the Commission's document DA 10-1235, adopted June 30, 2010, released June 30, 2010 extending certain waivers for TRS mandatory minimum standards to July 1, 2011. The full text of document DA 10-1235, and copies of any subsequently filed documents in this matter, will be available for public inspection and copies during regular business hours at the FCC Reference Information Center, Portals II, 445 12th Street, SW., Room CY-A257, Washington, DC 20554. DA 10-1235, and copies of subsequently filed documents in this matter also may be purchased from the Commission's duplicating contractor at Portals II, 445 12th Street, SW., Room CY-B402, Washington, DC 20554. Customers may contact the Commission's duplicating contractor at its Web site, http://www.bcpiweb.com or by calling 1-800-378-3160.

To request materials in accessible formats for people with disabilities (Braille, large print, electronic files, audio format), send an e-mail to fcc504@fcc.gov or call the Consumer and Governmental Affairs Bureau at (202) 418-0530 (voice) or (202) 418-0432 (TTY). The Commission's document DA 10-1235 can also be downloaded in Word and Portable Document Format (PDF) at http://www.fcc.gov/cgb/dro.trs.html.

Synopsis

One-line VCO, VCO-to-TTY, and VCO-to-VCO. One-line VCO is a type of traditional TTY-based TRS that can be used by persons with a hearing disability who can speak. The VCO user speaks directly to the other party to the call, and the CA types the response back so the VCO user can read it in text. A VCO-to-TTY call allows a relay conversation to take place between a VCO user and a TTY user; a VCO-to-VCO call allows a relay conversation to take place between two VCO users.

The Commission extends the waivers of these requirements for one year for VRS and IP Relay because the most recent annual waiver reports reflect that the Internet cannot support the voice leg of a VCO call with the necessary call quality. These waivers are again conditioned on the filing of a report, due April 16, 2011, addressing whether it is necessary for the waivers to remain in effect, and whether a technical fix is imminent.

One-line HCO, HCO-to-TTY, and HCO-to-HCO. One-line HCO is a type of traditional TTY-based TRS that can be used by persons with a speech disability who can hear. The HCO user types what he or she wishes to say to the called party, and the CA voices what the HCO user has typed. The HCO user then listens to what the called party says in response. An HCO-to-TTY call allows a relay conversation to take place between a HCO user and a TTY user; an HCO-to-HCO call allows a relay conversation to take place between two HCO users. The Commission extends the waivers of these requirements for one year because the most recent annual waiver reports reflect that VRS and IP Relay providers cannot provide these services.

Call Release. Call release allows a CA to set up a TTY-to-TTY call that, once established, does not require the CA to relay the conversation. In other words, this feature allows the CA to sign-off or be “released” from the telephone line, without triggering a disconnection between two TTY users, after the CA connects the originating TTY caller to the called party's TTY through, e.g., a business switchboard. The Commission extends the waiver of this requirement for one year due to technological infeasibility.

Pay-Per-Call (900) calls. Pay-per-call (900) calls are calls that the person making the call pays for at a charge greater than the basic cost of the call. The Commission extends the waiver of this requirement for VRS and IP Relay for one year because the providers' annual waiver reports reflect there is still no billing mechanism available to handle the charges associated with pay-per-call calls.

Types of Calls (Operated Assisted Calls and Long Distance Calls. Commission rules require TRS providers to handle any type of call routinely handled by common carriers. The requirement that VRS and IP Relay providers offer operator-assisted calls and bill certain types of calls to the end user was waived because providers could not determine when a call was local or long distance. VRS and IP Relay providers are required to allow calls to be placed using calling cards and/or provide free long distance during the waiver period. The Commission extends the waiver of this requirement for VRS and IP Relay for one year because the providers' annual waiver reports reflect that it remains technologically infeasible for providers to bill for these calls, since one leg of the call is transmitted over the Internet.

Equal Access to Interexchange Carriers. The TRS rules require that providers offer TRS users their interexchange carrier of choice to the same extent that such access is provided to voice users. The Commission has waived this requirement for VRS providers, noting that it was not possible to determine if a call is long distance and, in any event, the providers could not automatically route the calls to the caller's long distance carrier of choice. This waiver is contingent on VRS providers providing long distance services free of charge to the caller. The Commission extends the waiver of this requirement for VRS for one year because the providers cannot determine whether a particular call is local or long distance, and so they cannot offer carrier of choice. Instead, providers do not charge consumers for long distance service. The Commission waived this requirement for IP Relay indefinitely.

Speech-to-Speech. The Commission recognized STS as a form of TRS and required that it be offered as a mandatory service. The Commission waived this requirement indefinitely for VRS, noting that STS is a speech-based service, whereas VRS is a visual service using interpreters to interpret in sign language over a video connection. The requirement for IP Relay is waived until July 1, 2010, because of technical difficulties with respect to voice-initiated calls and the Internet. The Commission extends the waiver of this requirement for IP Relay for one year because providers of this service continue to report erratic voice quality.

Waiver for Default Providers Using Other Providers' CPE

The Commission extends the waiver of certain mandatory minimum standards for default Internet-based TRS providers that are unable to meet such standards for newly-registered Internet-based TRS users who port their customer premises equipment (CPE) from a former default provider, in those instances where the new default provider does not have access to the technical information about such CPE that would be necessary in order to comply with these standards. Specifically, the Commission extends the waiver for operational requirements, emergency handling requirements, and point-to-point calling associated with such porting.

All of these waivers are conditioned on the filing of a report, due April 16, 2011, addressing whether it is necessary for the waivers to remain in effect.

Mark Stone,
Deputy Bureau Chief, Consumer and Governmental Affairs Bureau, Federal Communications Commission.

[FR Doc. 2010-22122 Filed 9-2-10; 8:45 am]

BILLING CODE 6712-01-P